DEPARTMENT OF STATE

[Public Notice: 6006]

60-Day Notice of Proposed Information Collection: Form DS-4071, Export Declaration of Defense Technical Data or Services; OMB Control Number 1405-0157

ACTION: Notice of request for public comments.

SUMMARY: The Department of State is seeking Office of Management and Budget (OMB) approval for the information collection described below. The purpose of this notice is to allow 60 days for public comments in the Federal Register preceding submission to OMB. We are conducting this process in accordance with the Paperwork Reduction Act of 1995.

• Title of Information Collection: Export Declaration of Defense Technical Data or Services.

• OMB Control Number: 1405-0157.

• Type of Request: Extension of Currently Approved Collection.

• Originating Office: Bureau of Political-Military Affairs, Directorate of Defense Trade Controls, PM/DDTC.

• Form Number: DS-4071.

• Respondents: Business and Nonprofit Organizations.

• Estimated Number of Respondents: 2,000.

• Estimated Number of Responses: 10,000.

• Average Hours Per Response: 15 minutes.

• Total Estimated Burden: 2,500 hours.

• Frequency: On Occasion.

• Obligation to Respond: Mandatory.

DATES: The Department will accept comments from the public up to 60 days from December 6, 2007.

ADDRESSES: Comments and questions should be directed to Patricia C. Slygh, the Acting Director of the Office of Defense Trade Controls Management, Department of State, who may be reached via the following methods:

• E-mail: slyghpc@state.gov.

• Mail: Patricia C. Slygh, SA-1, 12th Floor, Directorate of Defense Trade Controls, Bureau of Political-Military Affairs, U.S. Department of State, Washington, DC 20522-0112.

• Fax: 202-261-8199.

You must include the information collection title in the subject lines of your message/letter.

FOR FURTHER INFORMATION CONTACT: Direct requests for additional information regarding the collection listed in this notice, including requests for copies of the information collection and supporting documents, to Patricia C. Slygh, PM/DDTC, SA-1, 12th Floor, Directorate of Defense Trade Controls, Bureau of Political-Military Affairs, U.S. Department of State, Washington, DC 20522-0112, who may be reached via phone at (202) 663-2830, or via e-mail at slyghpc@state.gov.

SUPPLEMENTARY INFORMATION: We are soliciting public comments to permit the Department to:

• Evaluate whether the proposed collection of information is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

Actual export of defense technical data and defense services will be electronically reported directly to the Directorate of Defense Trade Controls (DDTC). DDTC administers the International Traffic in Arms Regulations (ITAR) and Section 38 of the Arms Export Control Act (AECA). The actual exports must be in accordance with requirements of the ITAR and Section 38 of the AECA. DDTC will monitor the information to ensure there is proper control of the transfer of sensitive U.S. technology.

Methodology: The exporter will electronically report directly to DDTC the actual export of defense technical data and defense services using DS-4071. DS-4071 is available on DDTC's Web site, http://www.pmddtc.state.gov.

Dated: November 20, 2007.
Frank J. Ruggiero,
Deputy Assistant Secretary for Defense Trade Controls, Bureau of Political-Military Affairs, Department of State.

[FR Doc. E7-23668 Filed 12-5-07; 8:45 am]

BILLING CODE 4710-25-P